DEPARTMENT OF COMMERCE

National Oceanic and Atmospheric Administration

RIN 0648-XT85

Fisheries of the Caribbean, Gulf of Mexico, and South Atlantic; Reef Fish Fishery of the Gulf of Mexico

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Mr. Thomas Haugen. If granted, the EFP would authorize the applicant, with certain conditions, to harvest legal-sized fish with unauthorized fishing gear under his commercial reef fish permit and individual fishing quota allocation for one year when testing his size-selective fishing gear called an excluding fishing device (EFD). This study is intended to provide detailed information and disposition of reef fish caught by Mr. Haugen's size-selective fishing device and its affect on minimizing bycatch.

DATES: Comments must be received no later than 5 p.m., eastern time, on March 8, 2010.

ADDRESSES: You may submit comments on the application by any of the following methods:

• E-mail: Peter.Hood@noaa.gov. Include in the subject line of the e-mail comment the following document identifier: “Haugen_EFP”.

• Mail: Peter Hood, Southeast Regional Office, NMFS, 263 13th Avenue South, St. Petersburg, FL 33701.

• Fax: 727-824-5308.

The application and related documents are available for review upon written request to any of the above addresses.

FOR FURTHER INFORMATION CONTACT: Peter Hood, 727-824-5305; fax: 727-824-5308; e-mail: Peter.Hood@noaa.gov.

SUPPLEMENTARY INFORMATION: The EFP is requested under the authority of the Magnuson-Stevens Fishery Conservation and Management Act (16 U.S.C. 1801 et seq.), and regulations at 50 CFR 600.745(b) concerning exempted fishing.

The proposed gear testing involves activities otherwise prohibited by regulations implementing the Fishery Management Plan for the Reef Fish Resources of the Gulf of Mexico. The applicant requires authorization to harvest fish with unauthorized fishing gear under his commercial reef fish permit and individual fishing quota (IFQ) allocation for one year while testing his EFD. Testing would occur in Federal waters off the west coast of Florida, in two geographical areas. The northern area is bounded by rhumb lines connecting, in order, the following points:

Point | North latitude | West longitude
A | 29°05'00” | 84°47'00”
B | 28°42'30” | 84°24'50”
C | 28°42'30” | 84°16'20”
D | 28°11'00” | 84°00'00”
E | 28°10'00” | 83°45'00”
F | 28°10'00” | 83°14'00”
G | 29°37'00” | 84°00'00”
H | 29°35'00” | 84°38'00”

The southern area is bounded by rhumb lines connecting, in order, the following points:

Point | North latitude | West longitude
A | 26°26'00” | 82°59'00”
B | 26°26'00” | 82°29'00”
C | 25°15'00” | 82°02'00”
D | 24°48'00” | 82°06'00”
E | 24°45'00” | 82°42'00”
F | 24°48'00” | 82°48'00”
G | 25°07'30” | 82°34'00”
H | 26°26'00” | 82°59'00”

The gear proposed to be tested is similar to a fish trap but has an adjustable entrance and exit. It would be tested under an experimental design developed with input from NMFS' Southeast Fisheries Science Center. The gear initially would be fished in conjunction with traditional fish traps to determine the size selectivity and bycatch reduction offered by EFD. If shown effective, the EFDs would be used exclusively for the remainder of the year to test what affect further modifications to the gear would have on catch.

Bycatch and regulatory discards are persistent problems in the Gulf of Mexico reef fish fishery. This is particularly important for grouper caught by the commercial sector as stated by the Gulf of Mexico Fishery Management Council in their Amendment 32 to the Fishery Management Plan for the Reef Fish Resources of the Gulf of Mexico. Even though grouper are managed under an IFQ program, potential reductions in the gag allowable biological catch could impinge upon the harvest of red grouper due to gag bycatch. Providing fishermen with a method to target one species over another would allow them to maximize their economic return from fishing while reducing bycatch and regulatory discards.

NMFS finds this application warrants further consideration. Conditions the agency will impose on this permit, if it is indeed granted, include but are not limited to, a prohibition of conducting research within marine protected areas, marine sanctuaries, or special management zones without additional authorization. Additionally, NMFS requires any sea turtles taken incidentally during the course of fishing or scientific research activities to be handled with due care to prevent injury to live specimens, observed for activity, and returned to the water.

A final decision on issuance of the EFP will depend on a NMFS review of public comments received on the application, consultations with the affected states, the Gulf of Mexico Fishery Management Council, and the U.S. Coast Guard, and a determination that it is consistent with all applicable laws.

Authority: 16 U.S.C. 1801 et seq.

Dated: February 1, 2010.
Emily H. Menashes,
Acting Director, Office of Sustainable Fisheries, National Marine Fisheries Service.

[FR Doc. 2010-2429 Filed 2-4-10; 8:45 am]

BILLING CODE 3510-22-S